DEPARTMENT OF COMMERCE

National Oceanic and Atmospheric Administration

RIN 0648-XA292

Marine Mammals; File No. 16087

AGENCY: National Marine Fisheries Service (NMFS), National Oceanic and Atmospheric Administration (NOAA), Commerce.

ACTION: Notice; receipt of application for amendment.

SUMMARY: Notice is hereby given that NMFS National Marine Mammal Laboratory, Seattle, WA, has applied in due form for an amendment to Permit No. 16087-01 to conduct research on marine mammals.

DATES: Written, telefaxed, or email comments must be received on or before June 2, 2014.

ADDRESSES: The application and related documents are available for review by selecting “Records Open for Public Comment” from the Features box on the Applications and Permits for Protected Species (APPS) home page, https://apps.nmfs.noaa.gov, and then selecting File No. 16087 from the list of available applications.

These documents are also available upon written request or by appointment in the following office:

Permits, Conservation and Education Division, Office of Protected Resources, NMFS, 1315 East-West Highway, Room 13705, Silver Spring, MD 20910; phone (301)427-8401; fax (301)713-0376.

Written comments on this application should be submitted to the Chief, Permits, Conservation and Education Division, at the address listed above. Comments may also be submitted by facsimile to (301)713-0376, or by email to NMFS.Pr1Comments@noaa.gov. Please include File No. 16087 in the subject line of the email comment.

Those individuals requesting a public hearing should submit a written request to the Chief, Permits, Conservation and Education Division at the address listed above. The request should set forth the specific reasons why a hearing on this application would be appropriate.

FOR FURTHER INFORMATION CONTACT: Amy Sloan or Tammy Adams, (301)427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 16087-00, issued on May 18, 2011 (76 FR 30309), authorizes the permit holder to take marine mammals in California, Oregon, and Washington to investigate population status, health, demographic parameters, life history and foraging ecology of California sea lions (Zalophus californianus), Pacific harbor seals (Phoca vitulina), and northern elephant seals (Mirounga angustrirostris). Research procedures include: capture (stalking, round up, hoop net, darting, floating trap); administer drug (IM, subcutaneously); anesthesia (gas, sedatives); euthanasia; attach scientific instruments; mark (clip hair, flipper tag, hot brand, paint, patch); measure; restrain (board, cage, hand, head bag, net, pen); collect tissue sample (blood, blubber, enema, fecal loop, hair, stomach lavage, milk, remote biopsy, skin, swab, urine, vibrissae); ultrasound; and weigh. Up to 509,475 California sea lions may be taken annually, including 3,315 by capture and handle, 100 by harassment and tissue sampling, and 506,060 by incidental disturbance. Up to 100 moribund and 40 prematurely born California sea lion pups may be euthanized for health studies over the duration of the permit. Up to 1,185 harbor seals may be taken annually, including 50 by capture and handling, and 1,135 by incidental disturbance. Up to 2,766 northern elephant seals may be taken annually, including 50 by capture and handling, and 2,716 by incidental disturbance. The permit authorizes unintentional research-related mortality of up to 49 California sea lions, 4 harbor seals, and 4 northern elephant seals, and 1 northern fur seal. Up to 4,500 northern fur seals (Callorhinus ursinus) may be incidentally disturbed annually at San Miguel Island, CA during research activities. On April 26, 2012, a minor amendment (Permit No. 16087-01) was issued to expand diving behavior studies of northern elephant seals to include ultrasound measurements for examination of energy acquisition at sea. Permit No. 16087-01 expires on June 30, 2016.

The applicant requests an amendment to (1) modify annual takes and sample collection methods for California sea lions, Pacific harbor seals, and northern elephant seals; (2) add census, tagging and monitoring of threatened Guadalupe fur seal (Arctophoca phillipi townsendi) populations on the California Channel Islands; and (3) extend the duration of the permit by five years.

The take tables in Permit No. 16087-01 include annual takes for all species that limits takes to a maximum number less than the total of all annual takes over 5 years. The permit holder requests to remove the limit and thus increase the number of animals taken by disturbance, capture and sampling, and mortalities as indicated in the application take tables to allow annual takes over the duration of the permit. The permit holder also requests to collect ocular swabs, increase the number of swabs collected from each orifice to improve disease surveillance, and increase the number of animals from which swabs may be taken for all species. The permit holder requests pulling vibrissae in addition to clipping (already permitted) to allow the extraction of the entire vibrissae for stable isotope analysis so that entire foraging records can be obtained for all species. The request also includes an increase of 310 California sea lions that may be taken annually by capture and handling (from 3,315 to 3,625 annually) and an increase of up to 50 northern elephant seals that may be taken annually by capture and handling (from 50 to 100 annually) to allow for seasonal sampling for both species.

The permit holder also requests adding stock assessment research on Guadalupe fur seals to include: (1) Vessel and land censuses of all the California Channel Islands and haul out sites along the California, Oregon and Washington coasts to obtain a current population assessment of the species for NMFS status review and to identify the seasonality of their presence in U.S. waters; (2) remote camera deployment and visual observations for behavioral studies; (3) flipper tagging and morphometrics on pups at least one month old; (4) opportunistic collection of carcasses, scats, hair or other tissues from haulout areas following disturbance from surveys or when adult individuals are not present; and (5) incidental disturbance of Guadalupe fur seals while conducting California sea lion, northern elephant seal or harbor seal research. The permit holder requests to take up to 300 Guadalupe fur seals annually distributed over five geographic areas, including 200 by incidental disturbance and 100 by capture and handling. The permit holder also requests one unintentional research-related mortality of Guadalupe fur seals over the duration of the permit.

The permit holder requests that the duration of the permit, with the proposed amendments, be extended for a five-year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 28, 2014.
Tammy C. Adams,
Acting Deputy Director, Office of Protected Resources, National Marine Fisheries Service.

[FR Doc. 2014-10064 Filed 5-1-14; 8:45 am]

BILLING CODE 3510-22-P